DEPARTMENT OF HEALTH AND HUMAN SERVICES

Administration for Children and Families

Statement of Organization, Functions, and Delegations of Authority

This notice amends Part K of the Statement of Organization, Functions, and Delegations for Authority of the Department of Health and Human Services (DHHS), Administration of Children and Families (ACF) as follows: Chapter KG, The Office of Community Services (OCS) [62 FR 8743-44], as last amended February 26, 1997; Chapter KH, The Office of Family Assistance (OFA) [61 FR 35770], as last amended, February 23, 2000; and Chapter KM, The Office of Planning, Research and Evaluation (OPRE) [67 FR 4453-54], as last amended, January 30, 2002. This notice reflects the realignment of the Tribal Services and the Data Collection and Analysis functions within ACF.

These Chapters are amended as follows:

I. Chapter KG, The Office of Community Services

A. Delete KG.00 Mission in its entirety, and replace it with the following:

KG.00 Mission. The Office of Community Services (OCS) advises the Secretary, through the Assistant Secretary for Children and Families, on matters relating to community programs to promote economic self-sufficiency. The Office is responsible for administering programs that serve low-income and needy individuals and address the overall goal of personal responsibility and achieving and maintaining self-sufficiency. The Office administers the Community Services Block Grant, Social Services Block Grant, and the Low Income Home Energy Assistance Block Grant programs. The Office also administers the Family Violence Program. It administers a variety of discretionary grant programs that foster family stability, economic security, responsibility and self-support, promote and provide services to homeless and low-income individuals, and develop new and innovative approaches to reduce welfare dependency.

B. Delete KG.10 Organization in its entirety and replace with the following:

KG.10 Organization. The Office of Community Services is headed by a Director who reports directly to the Assistant Secretary for Children and Families and consists of:

Office of the Director (KGA)

Division of State Assistance (KGB)

Division of Community Discretionary Programs (KGC)

Division of Community Demonstration Programs (KGD)

Division of Energy Assistance (KGE)

C. Delete KG.20 Functions, Paragraph F, The Division of Tribal Services in its entirety.

II. Chapter KH, The Office of Family Assistance

A. Delete Chapter KH.00 Mission in its entirety, and replace with the following:

KH.00 Mission. The Office of Family Assistance (OFA) advises the Secretary, through the Assistant Secretary for Children and Families, on matters relating to the Temporary Assistance for Needy Families (TANF) program, title IV-A of the Social Security Act. This program promotes temporary assistance and economic self-sufficiency for children and families. The Office provides leadership, direction and technical guidance, with ACF Regional Offices, to the States, Tribes, and Territories on the TANF program, the Native Employment Works program, and the Aid to the Aged, Blind and Disabled program in Guam, Puerto Rico and the Virgin Islands. The Office refocuses efforts to increase economic independence and productivity for families. It provides direction and guidance in the collection and dissemination of performance and other valuable data for these programs. The Office provides technical assistance to States, Territories, Indian Tribes, Native American organizations, localities and community groups, and assesses State, Territorial, and Tribal performance in administering these programs; reviews State and Tribal planning for administrative and operational improvements; and recommends actions to improve effectiveness.

B. Delete KH.10 Organization in its entirety and replace with the following:

KH.10 Organization. The Office of Family Assistance is headed by a Director, who reports to the Assistant Secretary for Children and Families. The office is organized as follows:

Office of the Director (KHA)

Division of State TANF Policy (KHB)

Division of State and Territory TANF Management (KHC)

Division of Data Collection and Analysis (KHG)

Division of Tribal TANF Management (KHH)

C. Delete KH.20 Functions, Paragraph A. in its entirety and replace with the following:

KH.20 Functions. A. The Office of the Director is directly responsible to the Assistant Secretary for Children and Families for carrying out OFA's mission and providing direction, leadership, guidance and general supervision to the principal components of OFA. The Deputy Director assists the Director in carrying out the responsibilities of the office. The Chief Program Officer assists the Director, and OFA Divisions in program planning, coordination, and evaluation efforts, and providing leadership and direction in the planning and execution of initiatives designed to improve program and organizational performance. The Office provides public information services by responding to welfare reform inquiries from the public and private sectors from both domestic and international entities via written and electronic communication and monitors completion of correspondence assigned to OFA. This office also coordinates and organizes the printing and distribution of policy and guidance documents and responds to Freedom of Information Act (FOIA) requests.

D. Delete KH.20 Functions, Paragraph B. in its entirety and replace with the following:

B. The Division of State TANF Policy provides direction and guidance in the nationwide administration of the Temporary Assistance for Needy Families programs, under title IV-A of the Social Security Act and the Aid to the Aged, Blind, and Disabled program in Guam, Puerto Rico and the Virgin Islands.

The Division ensures compliance with Federal laws and regulations. The Division proposes and reviews legislation and implements national policy, develops regulations to implement new laws and prepares policy interpretations. The Division provides guidance and direction, analyzes, tracks and disseminates information on State progress in achieving work participation goals. The Division shapes and facilitates communication between Federal, State and local entities to coordinate cross-cutting welfare to work related policies. The Division collaborates with ACF and HHS components on related programs such as: Head Start, child care programs and programs related to child welfare. The Division develops State plan procedures and evaluates State TANF plans with internal and external collaboration to identify critical issues contained in the plans and amendments. It also prepares congressional materials, testimonies and speeches. The Division collaborates with and provides program guidance to the Office of the General Counsel (OGC) on litigation.

E. Delete KH.20 Functions, Paragraph C. in its entirety and replace with the following:

C. The Division of State and Territory TANF Management provides technical assistance to States, Territories, localities and community groups; assists in the assessment of State and Territorial performance in administering the TANF program and the Aid to the Aged, Blind and Disabled program in Guam, Puerto Rico and the Virgin Islands; and recommends and promotes improvements in outcomes for clients. The Division develops and implements strategies to assist grantees in implementing and designing programs to meet TANF purposes. The Division develops and delivers technical assistance, focusing on innovative policy and program design approaches, to improve the well-being of children. The Division facilitates closer working relationships with State programs and program officials to help States improve their TANF programs. The Division promotes cross-program policy initiatives to self-sufficiency and family focused services. The Division collaborates with ACF and HHS components and other Federal agencies to deliver family-focused services. It promotes job development through agreements with other Federal agencies and corporations. The Division identifies best practices and shares information through conferences, publications and other means. The Division establishes strong working partnerships with States, Tribes and Territories to help them build management capacity and skills to improve the performance of the TANF programs. The Division compiles, analyzes, evaluates, and disseminates information on implementation and strategies in the TANF program and other related welfare programs in the United States, including information on pertinent statutes, regulations, program instructions and guidance. The Division serves as a catalyst to connect other relevant national, Federal, State and local organizations to operate more effectively, and to share resources and information relative to increasing the economic self-sufficiency of low-income families. The Division has responsibility for updating contracted Web sites to provide easy access; targeted and focused useful information; customer-friendly organization and search capabilities.

F. Delete KH.20 Functions, Paragraph D. in its entirety and replace with the following:

D. The Division of Data Collection and Analysis is responsible for all aspects of the collection, compilation, analysis, and dissemination of statistical and financial data on the TANF program and the Aid to the Aged, Blind and Disabled programs in Guam, Puerto Rico, and the Virgin Islands. The Division develops regulations to implement data collection requirements; designs, develops, implements, and maintains systems for the collection and analysis of data including: participation rate information, recipient characteristics, financial and administrative data, State expenditures on families, work activities of non-custodial parents, transitional services, and data used in the assessment of State performance. The Division provides leadership and coordinates with other ACF and HHS offices and external organizations in the use of these data for policy and research purposes. The Division also develops and maintains statistical protocols and manuals for data collection purposes and provides technical assistance in the use of these materials.

G. Amend KH.20 Functions, to add the following new paragraph:

E. The Division of Tribal TANF Management is responsible for assisting in implementation and coordination of ongoing consultation with tribal governments and, where appropriate, State and Federal agencies regarding issues relating to the TANF and the Native Employment Works program and related legislation. It is also responsible for development of regulations and guidelines for Tribal employment programs and for providing leadership, policy direction, technical assistance and coordination of Tribal services programs. The Division performs inter- and intra-agency liaison functions to promote family stability, economic security, responsibility and self-support for Native Americans. It is responsible for conducting program reviews to ensure compliance with the Act, regulations and policy directives. It is responsible for activities related to tribal data collection reporting requirements relating to the programs.

III. Chapter KM, The Office of Planning, Research and Evaluation

A. Delete KM.00 Mission in its entirety and replace with the following:

KM.00 Mission. The Office of Planning, Research and Evaluation (OPRE) is the principal advisor to the Assistant Secretary for Children and Families on improving the effectiveness and efficiency of programs designed to make measurable improvements in the economic and social well-being of children and families.

The Office provides guidance, analysis, technical assistance, and oversight to ACF programs and across programs in the agency on: Strategic planning aimed at measurable results; performance measurement; research and evaluation methodologies; demonstration testing and model development; statistical, policy and program analysis; synthesis and dissemination of research and demonstration findings; and application of emerging technologies to improve the effectiveness of programs and service delivery.

The Office, through the Division of Economic Independence and the Division of Child and Family Development, oversees and manages the research programs under sections 413 and 1110 of the Social Security Act, including: Priority setting and analysis; managing and coordinating major cross-cutting, leading-edge studies and special initiatives; and collaborating with states, communities, foundations, professional organizations and others to promote the development of children, family focused services, parental responsibility, employment, and economic independence. Through the Division of Child and Family Development, the Office also oversees and manages the research, demonstration, and evaluation activities under Section 649 of the Head Start Act. In addition, the Office also provides coordination and leadership in implementing the Government Performance and Results Act (GPRA).

B. Delete KM.10 Organization in its entirety and replace with the following:

KM.10 Organization. The Office of Planing, Research and Evaluation (OPRE) is headed by a Director, who reports to the Assistant Secretary for Children and Families. The Office is organized as follows:

Office of the Director (KMA)

Division of Economic Independence (KMB)

Division of Child and Family Development (KMC)

C. Delete KM.20 Functions, Paragraph A. in its entirety and replace with the following:

KM.20 Functions. A. The Office of the Director provides direction and executive leadership to OPRE in administering its responsibilities. It serves as principal advisor to the Assistant Secretary for Children and Families on all matters pertaining to: improving the effectiveness and efficiency of ACF programs; strategic planning; performance measurement; program and policy evaluation; research and demonstrations; state and local innovations and progress; and public/private partnership initiatives of concern to the Assistant Secretary for Children and Families. It represents the Assistant Secretary for Children and Families at various planning, research, and evaluation forums and carries out special Departmental and Administration initiatives.

D. Delete KM.20 Functions, Paragraph B in its entirety and replace with the following:

B. The Division of Economic Independence, in cooperation with ACF income support programs and others, works with Federal counterparts, States, community agencies, and the private sector to understand and overcome barriers to economic independence; promote parental responsibility; and assist in improving the effectiveness of programs that further economic independence.

The Division provides guidance, analysis, technical assistance and oversight in ACF on: Strategic planning and performance measurement for economic independence; statistical, policy, and program analysis; surveys, research, and evaluation methodologies; demonstration testing and model development; synthesis and dissemination of research and demonstration findings; and application of emerging technologies to programs which promote employment, parental responsibility, and economic independence.

The Division develops policy-relevant research priorities; conducts, manages, and coordinates major cross-program, leading-edge research, demonstrations, and evaluation studies, manages and conducts statistical, policy, and program analyses on trends in employment, child support payments, and other income supports; and works in partnership with States, communities, and the private sector to promote employment, parental responsibility, and family economic independence.

E. Delete KM.20 Functions, Paragraph C. in its entirety and replace with the following:

C. The Division of Child and Family Development, in cooperation with ACF programs and others, works with Federal counterparts, States, community agencies, and the private sector to: Improve the effectiveness and efficiency of programs; assure the protection of children and other vulnerable populations; strengthen and promote family stability; and foster sound growth and development of children and their families.

The Division provides guidance, analysis, technical assistance, and oversight in ACF on: Strategic planning and performance measurement for all ACF programs, including child and family development; statistical, policy, and program analysis; surveys, research and evaluation methodologies; demonstration testing and model development; synthesis and dissemination of research and demonstration findings; and application of emerging technologies to improve the effectiveness of programs and service delivery.

The Division conducts, manages, and coordinates major cross-program, leading edge research, demonstration, and evaluation studies; develops policy-relevant research priorities; and manages and conducts statistical, policy, and program analyses related to children and families. Division staff also provides consultation, coordination, direction, and support for research activities related to children and families across ACF programs.

In partnership with the Head Start Bureau and the Commissioner, Administration on Children, Youth and Families, the Division oversees and manages the research, demonstration, and evaluation activities under section 649 of the Head Start Act and manages the Head Start research budget. The Division also manages the Social Services research and demonstration budget under section 1110 of the Social Security Act.

F. Delete KM.20 Functions, Paragraph D. in its entirety.

Dated: October 28, 2002.
Wade F. Horn,
Assistant Secretary for Children and Families.

[FR Doc. 02-27971 Filed 11-1-02; 8:45 am]

BILLING CODE 4184-01-P